DEPARTMENT OF ENERGY

Notice of Inventions Available for License

AGENCY: Department of Energy, Office of General Counsel.

ACTION: Notice of inventions available for license.

SUMMARY: The Department of Energy hereby announces that the following patents are available for license, in accordance with 37 USC 207-209: U.S. patent No. 5,114,690, entitled “Two Stage Sorption of Sulfur Compounds;” U.S. Patent No. 5,324,661, entitled “Chemotactic Selection of Pollutant Degrading Soil Bacteria”; U.S. Patent No. 5,384,048, entitled “Bioremediation of Contaminated Groundwater”; and U.S. Patent No. 5,326,703, entitled “Method of Degrading Pollutants in Soil.” A copy of the patents may be obtained, for a modest fee, from the U.S. Patent and Trademark Office, Washington, DC 20231.

FOR FURTHER INFORMATION CONTACT: Robert J. Marchick, Office of the Assistant General Counsel for Technology Transfer and Intellectual Property, U.S. Department of Energy, 1000 Independence Avenue, SW., Washington, DC 20585; Telephone (202) 586-2802.

SUPPLEMENTARY INFORMATION: 35 U.S.C. 207 authorizes licensing of Government-owned inventions. Implementing regulations are contained in 37 CFR 404. 37 CFR 404.7(a)(1) authorizes exclusive licensing of Government-owned inventions under certain circumstances, provided that notice of the invention's availability for license has been announced in the Federal Register.

Issued in Washington, DC, on October 3, 2000.
Paul A. Gottlieb,
Assistant General Counsel for Technology, Transfer and Intellectual Property.

[FR Doc. 00-25920 Filed 10-6-00; 8:45 am]

BILLING CODE 6450-01-P